GENERAL SERVICES ADMINISTRATION

[OMB Control No. 3090-0118; Docket No. 2023-0001; Sequence No. 3]

Information Collection; Federal Management Regulation; Statement of Witness; Standard Form 94

AGENCY: Office of Government-wide Policy (OGP), General Services Administration (GSA).

ACTION: Notice.

SUMMARY: Under the provisions of the Paperwork Reduction Act, the Regulatory Secretariat Division invites members of the public to comment on an extension to an existing information collection requirement regarding OMB Control No. 3090-0118, Statement of Witness, Standard Form 94.

DATES: Submit comments on or before November 20, 2023.

ADDRESSES: Submit comments identified by Information Collection 3090-0118 via http://www.regulations.gov. Submit comments via the Federal eRulemaking portal by searching for “Information Collection 3090-0118, Statement of Witness, Standard Form 94”. Select the link that corresponds with “Information Collection 3090-0118, Statement of Witness, Standard Form 94”. Follow the instructions provided on the screen. Please cite OMB Control No. 3090-0118, Statement of Witness, Standard Form 94” on your attached document.

Instructions: All items submitted must cite OMB control No. 3090-0118, Statement of Witness, Standard Form 94. All comments received will be posted without change to regulations.gov, including any personal and/or business confidential information provided. To confirm receipt of your comment(s), please check regulations.gov, approximately two-to-three days after submission to verify posting. If there are difficulties submitting comments, contact the GSA Regulatory Secretariat Division at 202-501-4755 or GSARegSec@gsa.gov.

FOR FURTHER INFORMATION CONTACT: Mr. Ray Wynter, GSA, OGP, Office of Asset and Transportation Management, at telephone 202-501-3802 or via email to ray.wynter@gsa.gov.

SUPPLEMENTARY INFORMATION:

A. Purpose

GSA's Office of Government-wide Policy is announcing the availability of Standard Form 94, Statement of Witness that is publicly available on http://www.gsa.gov/forms. This form will be used to collect information from witnesses reporting accidents and/or damage to Federal Fleet Vehicles. Standard Form (SF) 94 provides additional accounts of motor vehicle accidents that supplement statements made by a motor vehicle operator. Use of the SF 94 is prescribed in Federal Management Regulation, 41 CFR 102-34.290(b) and Federal Property Management Regulations, 41 CFR 101-39.401(b). The SF 94 is usually completed at the time of an accident involving a motor vehicle owned or leased by the Government.

The SF 94 is an essential part of the investigation of motor vehicle accidents, especially those involving the public with a potential for claims against the United States. It is a vital piece of information in lawsuits and provides the Assistant United States Attorneys with a written statement to refresh recollection of accidents, as necessary.

B. Annual Reporting Burden

Respondents: 290.

Responses per Respondent: 1.

Total Annual Responses: 290.

Hours per Response: 0.333.

Total Burden Hours: 97.

C. Public Comments

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the Regulatory Secretariat Division, at GSARegSec@gsa.gov. Please cite OMB Control No. 3090-0118, Statement of Witness, Standard Form 94, in all correspondence.

Lesley Briante,
Acting Deputy Chief Information Officer.

[FR Doc. 2023-20384 Filed 9-19-23; 8:45 am]

BILLING CODE 6820-14-P